DEPARTMENT OF HOUSING AND URBAN DEVELOPMENT

[Docket No. FR-5480-N-73]

Notice of Submission of Proposed Information Collection to OMB; Assessment of Native American, Alaska Native, and Native Hawaiian Housing Needs

AGENCY: Office of the Chief Information Officer, HUD.

ACTION: Notice.

SUMMARY: The proposed information collection requirement described below has been submitted to the Office of Management and Budget (OMB) for review, as required by the Paperwork Reduction Act. The Department is soliciting public comments on the subject proposal.

The goals of the proposed study are to provide clear, credible, and consistent information describing the needs of the Native American, Alaska Native, and Native Hawaiian populations with respect to both their housing conditions and socio-economic situations. The proposed data collection and analyses will be used to inform policy in ways that enable Tribes to more effectively use resources to improve housing conditions. UI performed a similar assessment in 1996, prior to the passage of the Native American Housing Assistance and Self-Determination Act (NAHASDA) of 1996 that fundamentally changed the way Federal funding is delivered to Tribal people. Issues surrounding the changes NAHASDA introduced also are a key part of the proposed study.

DATES: Comments Due Date: September 19, 2011.

ADDRESSES: Interested persons are invited to submit comments regarding this proposal. Comments should refer to the proposal by name and/or OMB Approval Number (2528-Pending) and should be sent to: HUD Desk Officer, Office of Management and Budget, New Executive Office Building, Washington, DC 20503; e-mail OIRA-Submission@omb.eop.gov; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Assessment of Native American, Alaska Native, and Native Hawaiian Housing Needs.

OMB Approval Number: 2528-Pending.

Form Numbers: None.

Description of the Need for the Information and its Proposed Use: The goals of the proposed study are to provide clear, credible, and consistent information describing the needs of the Native American, Alaska Native, and Native Hawaiian populations with respect to both their housing conditions and socio-economic situations. The proposed data collection and analyses will be used to inform policy in ways that enable Tribes to more effectively use resources to improve housing conditions. UI performed a similar assessment in 1996, prior to the passage of the Native American Housing Assistance and Self-Determination Act (NAHASDA) of 1996 that fundamentally changed the way Federal funding is delivered to Tribal people. Issues surrounding the changes NAHASDA introduced also are a key part of the proposed study.

Frequency of Submission: On occasion, Annually.

| Number of respondents | Annual responses | x | Hours per response | = | Burden hours
Reporting Burden | 2,045 | 1 |  | 0.778 |  | 1,592

Total Estimated Burden Hours: 1,592.

Status: New collection.

Authority: Section 3507 of the Paperwork Reduction Act of 1995, 44 U.S.C. 35, as amended.

Dated: July 26, 2011.
Colette Pollard,
Departmental Reports Management Officer, Office of the Chief Information Officer.

[FR Doc. 2011-19587 Filed 8-2-11; 8:45 am]

BILLING CODE 4210-67-P